DEPARTMENT OF TRANSPORTATION

Surface Transportation Board

[STB Finance Docket No. 34523]

KWT Railway, Inc.—Acquisition and Operation Exemption—Rail Line of CSX Transportation, Inc.

KWT Railway, Inc. (KWT), a Class III rail carrier, has filed a verified notice of exemption under 49 CFR 1150.41 to acquire by purchase from CSX Transportation, Inc. (CSXT), and operate approximately 12.8 miles of rail line extending from milepost OND 116.8 at McKenzie, TN (Valuation Station 6166+68), to milepost OND 129.6 at Dresden, TN (Valuation Station 6848+78.8), in Weakley and Carroll Counties, TN. The transaction also includes incidental trackage rights granted by CSXT to KWT over approximately 23 miles of CSXT's main line from milepost OND 116.8 at McKenzie to milepost OND 93.8 at CSXT's Bruceton, TN yard limit. The transaction will extend KWT's existing rail line and will facilitate interchange at CSXT's Bruceton Yard from the west.

KWT certifies that its projected revenues as a result of this transaction will not result in the creation of a Class I or Class II rail carrier, and that they will not exceed $5 million annually.

The transaction is scheduled to be consummated within 30 days after the effective date of the exemption (7 days after the exemption was filed).

If the verified notice contains false or misleading information, the exemption is void ab initio. Petitions to revoke the exemption under 49 U.S.C. 10502(d) may be filed at any time. The filing of a petition to revoke does not automatically stay the transaction.

An original and 10 copies of all pleadings, referring to STB Finance Docket No. 34523, must be filed with the Surface Transportation Board, 1925 K Street, NW., Washington, DC 20423-0001. In addition, one copy of each pleading must be served on Andrew B. Kolesar III, Slover & Loftus, 1224 Seventeenth Street, NW., Washington, DC 20036.

Board decisions and notices are available on our Web site at http://www.stb.dot.gov.

Decided: August 25, 2004.
By the Board, David M. Konschnik, Director, Office of Proceedings.
Vernon A. Williams,
Secretary.

[FR Doc. 04-19928 Filed 9-1-04; 8:45 am]

BILLING CODE 4915-01-P